DEPARTMENT OF TRANSPORTATION

Federal Railroad Administration

Agency Information Collection Activities

AGENCY: Federal Railroad Administration, DOT.

ACTION: Notice of OMB approvals.

SUMMARY: In compliance with the Paperwork Reduction Act of 1995 (44 U.S.C. 3501 et seq.) and 5 CFR 1320.5(b), this notice announces that new information collections requirements (ICRs) listed below have been approved by the Office of Management and Budget (OMB). These new ICRs pertain to 49 CFR Parts 213, 216, 217, 222, 227, 229, and 238. Additionally, FRA hereby announces that other ICRs listed below have been re-approved by the Office of Management and Budget (OMB). These ICRs pertain to Parts 207, 209, 210, 214, 215, 217, 218, 223, 225, 228, 232, 233, 234, 235, and 236. The OMB approval numbers, titles, and expiration dates are included herein under supplementary information.

FOR FURTHER INFORMATION CONTACT: Mr. Robert Brogan, Office of Planning and Evaluation Division, RRS-21, Federal Railroad Administration, 1120 Vermont Ave., NW., Mail Stop 17, Washington, DC 20590 (telephone: (202) 493-6292), or Ms. Gina Christodoulou, Office of Support Staff, RAD-43, Federal Railroad Administration, 1120 Vermont Ave., NW., Mail Stop 35, Washington, DC 20590 (telephone: (202) 493-6139). (These telephone numbers are not toll-free.)

SUPPLEMENTARY INFORMATION: The Paperwork Reduction Act of 1995 (PRA), Pub. L. 104-13, § 2, 109 Stat. 163 (1995) (codified as revised at 44 U.S.C. 3501-3520), and its implementing regulations, 5 CFR Part 1320, require Federal agencies to display OMB control numbers and inform respondents of their legal significance once OMB approval is obtained. The following new FRA information collections were approved within the past twelve months: (1) OMB No. 2130-0010, Track Safety Standards (Continuous Welded Rail) (49 CFR 213) (Final Rule) (Form FRA F 6180.124). The expiration date for this information collection is January 31, 2010. (2) OMB No. 2130-0035, Railroad Operating Rules (49 CFR 217) (NPRM). The expiration date for this information collection is December 31, 2009. (3) OMB No. 2130-0544, Passenger Equipment Safety Standards (49 CFR 216, 229, and 238) (Final Rule). The expiration date for this information collection is December 31, 2009. (4) OMB No. 2130-0560, Use of Locomotive Horns at Highway-Rail Grade Crossings (49 CFR Parts 222 and 229) (Amendments to Final Rule). The expiration date for this information collection is October 31, 2009. (5) OMB No. 2130-0564, Locomotive Crashworthiness (49 CFR 238) (Final Rule). The expiration date for this information collection is May 31, 2008. (6) OMB No. 2130-0571, Occupational Noise Exposure for Railroad Operating Employees (49 CFR 227 and 229). The expiration date for this information collection is January 31, 2009.

The following information collections were re-approved within the past year: (1) OMB No. 2130-0005, Hours of Service Regulations (49 CFR 228) (Form FRA F 6180.3). The new expiration date for this information collection is November 30, 2009. (2) OMB No. 2130-0006, Railroad Signal System Requirements (49 CFR 233, 235, 236) (Forms FRA F 6180.14; FRA F 6180.47). The new expiration date for this information collection is August 31, 2009. (3) OMB No. 2130-0008, Inspection Brake System Safety Standards for Freight and Other Non-Passenger Trains and Equipment (49 CFR 232). The new expiration date for this information collection is January 31, 2010. (4) OMB No. 2130-0017, U.S. DOT Crossing Inventory Form (Form FRA F 6180.71). The new expiration date for this information collection is August 31, 2009. (5) OMB No. 2130-0035, Railroad Operating Rules (49 CFR 217). The new expiration date for this information collection is September 30, 2009. (6) OMB No. 2130-0502, Filing of Dedicated Cars (49 CFR 225). The new expiration date for this information collection is September 30, 2009. (7) OMB No. 2130-0506, Identification of Cars Moved in Accordance with Order 13528 (49 CFR 232). The new expiration date for this information collection is March 31, 2009. (8) OMB No. 2130-0509, State Safety Participation Regulations and Remedial Actions (49 CFR 209) (Forms FRA F 619.33/61/67/96/96a/109/110/111/112). The new expiration date for this information collection is November 30, 2009. (9) OMB No. 2130-0516, Remotely Controlled Switch Operations (49 CFR 218). The new expiration date for this information collection is September 30, 2009. (10) OMB No. 2130-0519, Bad Order and Home Shop Card (49 CFR 225). The new expiration date for this information collection is September 30, 2009. (11) OMB No. 2130-0520, Stenciling Reporting Mark on Freight Cars (49 CFR 215). The new expiration date for this information collection is September 30, 2009. (12) OMB No. 2130-0523, Rear-End Marking Devices (49 CFR 223). The new expiration date for this information collection is September 30, 2009. (13) OMB No. 2130-0525, Certification of Glazing Materials (49 CFR 223). The new expiration date for this information collection is February 28, 2010. (14) OMB No. 2130-0527, Locomotive Certification (Noise Compliance Regulations) (49 CFR 210). The new expiration date for this information collection is September 30, 2009. (15) OMB No. 2130-0529, Disqualification Proceedings (49 CFR Part 209). The new expiration date for this information collection is February 28, 2010. (16) OMB No. 2130-0534, Grade Crossing Signal System Safety (49 CFR Part 234) (Form FRA F 6180.83). The new expiration date for this information collection is September 30, 2009. (17) OMB No. 2130-0535, Bridge Worker Safety Rules (49 CFR Part 214). The new expiration date for this information collection is September 30, 2009. (18) OMB No. 2130-0537, Railroad Police Officers (49 CFR Part 207). The new expiration date for this information collection is September 30, 2009. (19) OMB No. 2130-0568, FRA Emergency Order No. 24. The new expiration date for this information collection is August 31, 2009.

Persons affected by the above referenced information collections are not required to respond to any collection of information unless it displays a currently valid OMB control number. These approvals by the Office of Management and Budget (OMB) certify that FRA has complied with the provisions of the Paperwork Reduction Act of 1995 (Pub. L. 104-13) and with 5 CFR 1320.5(b) by informing the public about OMB's approval of the information collection requirements of the above cited regulations and forms.

Authority: 44 U.S.C. 3501-3520.

Issued in Washington, DC on March 5, 2007.
D.J. Stadtler,
Director, Office of Budget, Federal Railroad Administration.

[FR Doc. E7-4213 Filed 3-8-07; 8:45 am]

BILLING CODE 4910-06-P